DEPARTMENT OF LABOR

Employment and Training Administration

[TA-W-60,958]

Sekely Industries, Inc. Including On-Site Workers of Staffright, Bartech, and Alliance Staffing, Salem, OH; Notice of Revised Determination on Reconsideration

On May 14, 2007, the Department of Labor (Department) issued a Negative Determination Regarding Eligibility to Apply for Worker Adjustment Assistance and Alternative Trade Adjustment Assistance for the workers and former workers of Sekely Industries, Inc., Salem, Ohio (subject firm). The Department's Notice of Negative Determination was published in the Federal Register on June 6, 2007 (72 FR 31346). Workers produced automotive dies until the subject firm ceased operation in January 2007. The subject firm used temporary workers supplied by Staffright, Bartech, and Alliance Staffing agencies.

The investigation revealed that section 222(a)(2)(A)(I)(C) and section (a)(2)(B)(II)(B) of the Trade Act of 1974, as amended, were not met.

The investigation revealed that the subject firm did not increase its imports of dies or successfully shift its production of automotive dies abroad during the relevant period. The investigation also revealed no increased imports by the subject firm's major declining customers of like or directly competitive dies accompanied by decreased subject firm purchases.

By application dated June 11, 2007, a worker requested administrative reconsideration of the negative determination. The request alleged that the subject firm shifted production to an affiliated facility in China.

During the reconsideration investigation, the Department confirmed that the subject firm did not shift production abroad. The Department also received new information that revealed that, during the relevant period, a major declining customer of the subject firm replaced subject firm purchases with imported dies that are like or directly competitive with those produced by the subject firm.

In accordance with section 246 the Trade Act of 1974 (26 U.S.C. 2813), as amended, the Department herein presents the results of its investigation regarding certification of eligibility to apply for ATAA. The Department has determined in this case that the group eligibility requirements of section 246 have been met.

A significant number of workers at the firm are age 50 or over and possess skills that are not easily transferable. Competitive conditions within the industry are adverse.

Conclusion

After careful review of the new information obtained in the reconsideration investigation, I determine that workers and former workers of Sekely Industries, Inc., Salem, Ohio are negatively impacted by increased imports of automotive dies like or directly competitive with those produced by the subject firm.

In accordance with the provisions of the Act, I make the following certification:

All workers of Sekely Industries, Inc., including on-site temporary workers of Staffright, Bartech, and Alliance Staffing, Salem, Ohio who became totally or partially separated from employment on or after February 9, 2006, through two years from the date of this certification, are eligible to apply for adjustment assistance under section 223 of the Trade Act of 1974, and are eligible to apply for alternative trade adjustment assistance under section 246 of the Trade Act of 1974.

Signed at Washington, DC this 28th day of August 2007.
Elliott S. Kushner,
Certifying Officer, Division of Trade Adjustment Assistance.

[FR Doc. E7-17473 Filed 9-4-07; 8:45 am]

BILLING CODE 4510-FN-P